DEPARTMENT OF ENERGY

Federal Energy Regulatory Commission

[ Project No. 906-006 (VA)]

Virginia Electric & Power Company; Notice of Availability of Final Environmental Assessment

May 8, 2008.

In accordance with the National Environmental Policy Act of 1969 and the Federal Energy Regulatory Commission's regulations, 18 CFR Part 380 (Order No. 486, 52 FR 47879), the Office of Energy Projects has reviewed the application for a new license for the Cushaw Hydroelectric Project, located on the James River, near the Town of Glasgow, Virginia, and has prepared a Final Environmental Assessment (FEA). In the FEA, Commission staff analyze potential environmental effects of relicensing the project and conclude that issuing a new license for the project, with appropriate environmental measures, would not constitute a major federal action significantly affecting the quality of the human environment.

A copy of the FEA is on file with the Commission and is available for public inspection. The FEA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. For further information, contact Kristen Murphy at (202) 502-6236.

Kimberly D. Bose,
Secretary.

[FR Doc. E8-10959 Filed 5-15-08; 8:45 am]

BILLING CODE 6717-01-P